DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on July 1, 2021, through July 31, 2021. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading For Further Information Contact), with a copy to HRSA addressed to Director, Division of Injury Compensation Programs, Healthcare Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Diana Espinosa,
Acting Administrator.

List of Petitions Filed

1. James Edward Perry, Garden Grove, California, Court of Federal Claims No: 21-1530V

2. Billy Sword, Kingsport, Tennessee, Court of Federal Claims No: 21-1534V

3. Amanda Purdin, Hilliard, Ohio, Court of Federal Claims No: 21-1536V

4. Eileen Arcery, Depew, New York, Court of Federal Claims No: 21-1537V

5. Alex Dosser, Oklahoma City, Oklahoma, Court of Federal Claims No: 21-1538V

6. Rameen Rizi, Phoenix, Arizona, Court of Federal Claims No: 21-1544V

7. Angeline Khan on behalf of A.K., Hayward, California, Court of Federal Claims No: 21-1545V

8. Veronica Mendoza, Juarez, Mexico, Court of Federal Claims No: 21-1547V

9. Jennifer Raftery, Washington, District of Columbia, Court of Federal Claims No: 21-1549V

10. Meagan Brown Schmidt, Washington, District of Columbia, Court of Federal Claims No: 21-1550V

11. David Shafer, Midland, Texas, Court of Federal Claims No: 21-1552V

12. Darcy Weidner, Sharon, Pennsylvania, Court of Federal Claims No: 21-1554V

13. Olinda Gilmore, Universal City, Texas, Court of Federal Claims No: 21-1556V

14. William L. Miller, Cary, North Carolina, Court of Federal Claims No: 21-1559V

15. Erik Koonce, Doylestown, Pennsylvania, Court of Federal Claims No: 21-1560V

16. Patricia Santiago, Chicago, Illinois, Court of Federal Claims No: 21-1562V

17. Nicholas Politano, Phoenix, Arizona, Court of Federal Claims No: 21-1563V

18. Laura Surface, Northfield, New Jersey, Court of Federal Claims No: 21-1565V

19. Juanita Green, Washington, District of Columbia, Court of Federal Claims No: 21-1566V

20. Claire Kuang, Washington, District of Columbia, Court of Federal Claims No: 21-1567V

21. Kathleen R. McNamee, North Olmstead, Ohio, Court of Federal Claims No: 21-1568V

22. Katie Perette, Bridgewater, Massachusetts, Court of Federal Claims No: 21-1569V

23. John Wirsen, Springfield, Missouri, Court of Federal Claims No: 21-1571V

24. Raquel Hernandez, Modesto, California, Court of Federal Claims No: 21-1572V

25. Hannah R. Boudreau, Juliet, Tennessee, Court of Federal Claims No: 21-1573V

26. Beverly Hales, Ashland, Texas, Court of Federal Claims No: 21-1575V

27. William McCaughey, Warwick, Rhode Island, Court of Federal Claims No: 21-1576V

28. Helena Smith on behalf of A.S., Chicago, Illinois, Court of Federal Claims No: 21-1577V

29. William Minner, Topeka, Kansas, Court of Federal Claims No: 21-1579V

30. Keith A. Lee, New York, New York, Court of Federal Claims No: 21-1582V

31. Bobbi Hoodiman on behalf of T.H., Ridgewood, New Jersey, Court of Federal Claims No: 21-1583V

32. Edward O. Janosko, II, Wilmington, North Carolina, Court of Federal Claims No: 21-1584V

33. Jammie Yerks, Boscobel, Wisconsin, Court of Federal Claims No: 21-1585V

34. Dennis L. Ericson, West Hartford, Connecticut, Court of Federal Claims No: 21-1587V

35. Todd Seely, Washington, District of Columbia, Court of Federal Claims No: 21-1590V

36. Kathleen Pachuki, Chicago, Illinois, Court of Federal Claims No: 21-1591V

37. Madison Jugon, The Woodlands, Texas, Court of Federal Claims No: 21-1592V

38. Brenda Hatten, Omaha, Nebraska, Court of Federal Claims No: 21-1593V

39. Cristian Garcia, Boston, Massachusetts, Court of Federal Claims No: 21-1601V

40. Robert Donchess, Blythewood, South Carolina, Court of Federal Claims No: 21-1603V

41. Luke Kramer, Upland, California, Court of Federal Claims No: 21-1604V

42. James Mease, Elkton, Maryland, Court of Federal Claims No: 21-1605V

43. Taylor Williams, Greensboro, North Carolina, Court of Federal Claims No: 21-1606V

44. Frank Burke, Portland, Oregon, Court of Federal Claims No: 21-1607V

45. Paul Pellegrino on behalf of A.P., Matthews, North Carolina, Court of Federal Claims No: 21-1608V

46. Victoria A. Van Voorhis, Rochester, New York, Court of Federal Claims No: 21-1610V

47. Edna Fowler on behalf of The Estate of William Fowler, Deceased, Dublin, Ohio, Court of Federal Claims No: 21-1611V

48. Morgan Smith, Rock Hill, South Carolina, Court of Federal Claims No: 21-1613V

49. Roger Nyhuis, Cincinnati, Ohio, Court of Federal Claims No: 21-1615V

50. Julia Seeli on behalf of P.S., Phoenix, Arizona, Court of Federal Claims No: 21-1616V

51. Michelle Foster on behalf of H.F., Phoenix, Arizona, Court of Federal Claims No: 21-1617V

52. Nicholas Delaney and Krystal Delaney on behalf of C.M.D., St. Cloud, Minnesota, Court of Federal Claims No: 21-1620V

53. Cassie Malone, Casper, Wyoming, Court of Federal Claims No: 21-1625V

54. Sarah Lukas, Phoenix, Arizona, Court of Federal Claims No: 21-1627V

55. Jeanne M. Quattromani, Westerly, Rhode Island, Court of Federal Claims No: 21-1628V

56. Linda Waxman, Lyndhurst, Ohio, Court of Federal Claims No: 21-1631V

57. John D. Slusser, Jr., St. Christiansburg, Virginia, Court of Federal Claims No: 21-1636V

58. Julia Seeli on behalf of S. H., Phoenix, Arizona, Court of Federal Claims No: 21-1637V

59. Yvonne Romo, Seattle, Washington, Court of Federal Claims No: 21-1638V

[FR Doc. 2021-17557 Filed 8-16-21; 8:45 am]

BILLING CODE 4165-15-P